ENVIRONMENTAL PROTECTION AGENCY

[FRL-9195-4; Docket ID No. EPA-HQ-ORD-2010-0709]

A Method to Assess Climate-Relevant Decisions: Application in the Chesapeake Bay

AGENCY: Environmental Protection Agency (EPA).

ACTION: Notice of public comment period.

SUMMARY: The EPA is announcing a 60-day public comment period for the draft document titled, “A Method to Assess Climate-Relevant Decision: Application in the Chesapeake Bay” (EPA/600/R-10/096a). The draft document was prepared by the National Center for Environmental Assessment (NCEA) within EPA's Office of Research and Development.

In the 2010 Executive Order (EO) Strategy entitled, Protecting and Restoring the Chesapeake Bay Watershed, EPA has committed to “minimize the vulnerability of the Chesapeake Bay watershed to adverse impacts from climate change.” The EO Strategy also commits EPA to ensuring that “TMDL allocations account for climate change impacts [by working] in conjunction with the states to conduct an analysis by 2017 to consider accounting for uncertainties of climate change in TMDL allocations.” To accomplish this, it is necessary to understand the rates at which conditions are changing and are projected to change in the future; how various factors, such as land-use changes, interact with climate change impacts; and the likely consequences for water quality, habitats, fish and wildlife and communities. This draft report presents a systematic approach for evaluating these factors and practices for their relative potential effectiveness in ameliorating climate changes impacts. The report also includes the results of applying this approach in a pilot assessment of management practices in the Chesapeake Bay watershed. The practices evaluated could be used for both nutrient and sediment reductions, and also to ameliorate the effects of climate change on water quality that will ultimately inform the 2017 reassessment for Bay restoration.

The public comment period and the external peer-review workshop, which will be scheduled at a later date and announced in the Federal Register, are separate processes that provide opportunities for all interested parties to comment on the document. EPA intends to forward public comments that are submitted in accordance with this notice to the external peer-review panel prior to the meeting for their consideration. When finalizing the draft document, EPA intends to consider any public comments that EPA receives in accordance with this notice.

EPA is releasing this draft document solely for the purpose of pre-dissemination peer review under applicable information quality guidelines. This document has not been formally disseminated by EPA. It does not represent and should not be construed to represent any Agency policy or determination.

DATES: The 60-day public comment period begins August 31, 2010, and ends November 1, 2010. Technical comments should be in writing and must be received by EPA by November 1, 2010.

ADDRESSES: The draft “A Method To Assess Climate-Relevant Decisions: Application in the Chesapeake Bay” is available via the Internet on the National Center for Environmental Assessment's home page under the Recent Additions and the Data and Publications menus at http://www.epa.gov/ncea. A limited number of paper copies are available from the Information Management Team (IMT), NCEA; telephone: 703-347-8561; facsimile: 703-347-8691. If you are requesting a paper copy, please provide your name, mailing address, and the document title, “A Method To Assess Climate-Relevant Decisions: Application in the Chesapeake Bay.”

Comments may be submitted electronically via http://www.regulations.gov, by mail, by facsimile, or by hand delivery/courier. Please follow the detailed instructions as provided in the SUPPLEMENTARY INFORMATION section of this notice.

FOR FURTHER INFORMATION CONTACT: For information on the public comment period, contact the Office of Environmental Information Docket; telephone: 202-566-1752; facsimile: 202-566-1753; or e-mail: ORD.Docket@epa.gov.

If you need technical information about the document, please contact Susan Julius, National Center for Environmental Assessment (NCEA); telephone: 703-347-8619; facsimile: 703-347-8694; e-mail: julius.susan@epa.gov.

SUPPLEMENTARY INFORMATION:

I. Summary of Information About the Project/Document

Climate change is a global phenomenon that is affecting natural and human systems in all parts of the world. Some of the decisions and actions taken to manage these systems are likely to be affected by climate change and may likewise affect the vulnerability of the managed resource or ecosystem to climate change. The goal of this study is to formalize an approach to inventory and analyze management decisions in order to produce useful information targeted toward effective adaptation to climate change. The approach uses as its starting point ongoing planning processes and decisions geared toward achieving environmental management goals, and then collects information on decisions and prioritizes them according to specific attributes. The pilot study described in this report applies this approach and examines its usefulness to decision makers.

The major steps of the approach are to (1) select a study area and compile a list of key decisions (2) develop criteria for evaluating the climate-relevance of decisions; (3) apply the criteria to select decisions that are potentially sensitive to climate change; (4) solicit expert judgment regarding those selections (and refine the selections accordingly); and (5) test alternative weighting schemes for prioritizing decisions most in need of decision support or additional research based on the selected attributes.

II. How To Submit Technical Comments to the Docket at www.regulations.gov

Submit your comments, identified by Docket ID No. EPA-HQ-ORD 2010-0709, by one of the following methods:

• http://www.regulations.gov: Follow the on-line instructions for submitting comments.

• E-mail: ORD.Docket@epa.gov.

• Fax: 202-566-1753.

• Mail: Office of Environmental Information (OEI) Docket (Mail Code: 2822T), U.S. Environmental Protection Agency, 1200 Pennsylvania Ave., NW., Washington, DC 20460. The phone number is 202-566-1752.

• Hand Delivery: The OEI Docket is located in the EPA Headquarters Docket Center, Room 3334 EPA West Building, 1301 Constitution Ave., NW., Washington, DC. The EPA Docket Center Public Reading Room is open from 8:30 a.m. to 4:30 p.m., Monday through Friday, excluding legal holidays. The telephone number for the Public Reading Room is 202-566-1744. Such deliveries are only accepted during the Docket's normal hours of operation, and special arrangements should be made for deliveries of boxed information.

If you provide comments by mail or hand delivery, please submit three copies of the comments. For attachments, provide an index, number pages consecutively with the comments, and submit an unbound original and three copies.

Instructions: Direct your comments to Docket ID No. EPA-HQ-ORD-2010-0709. Please ensure that your comments are submitted within the specified comment period. Comments received after the closing date will be marked “late,” and may only be considered if time permits. It is EPA's policy to include all comments it receives in the public docket without change and to make the comments available online at http://www.regulations.gov, including any personal information provided, unless a comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: Documents in the docket are listed in the http://www.regulations.gov index. Although listed in the index, some information is not publicly available, e.g., CBI or other information whose disclosure is restricted by statute. Certain other materials, such as copyrighted material, are publicly available only in hard copy. Publicly available docket materials are available either electronically in http://www.regulations.gov or in hard copy at the OEI Docket in the EPA Headquarters Docket Center.

Dated: August 25, 2010.
Rebecca Clark,
Acting Director, National Center for Environmental Assessment.

[FR Doc. 2010-21696 Filed 8-30-10; 8:45 am]

BILLING CODE 6560-50-P